DEPARTMENT OF AGRICULTURE

Forest Service

Final Record of Decision for the Cibola National Forest Land Management Plan

AGENCY: Forest Service, Agriculture (USDA).

ACTION: Notice of Approval of the Revised Land Management Plan for the Cibola National Forest.

SUMMARY: Steve Hattenbach, the Forest Supervisor for the Cibola National Forest, Southwestern Region, signed the record of decision (ROD) for the Cibola National Forest Land Management Plan (LMP). The final ROD documents the rationale for approving the LMP and is consistent with the Reviewing Officer's responses to objections and instructions.

DATES: The revised LMP for the Cibola National Forest will become effective August 15, 2022 (36 CFR 219.17(a)(1)).

ADDRESSES: To view the signed ROD, Final Environmental Impact Statement (FEIS), LMP, and other related documents, please visit the Cibola National Forest Plan Revision website at: https://www.fs.usda.gov/main/cibola/landmanagement/planning. A legal notice of approval is also being published in the Cibola National Forest's newspaper of record, The Albuquerque Journal. A copy of this legal notice will be posted on the Cibola National Forest website listed above.

FOR FURTHER INFORMATION CONTACT: Jay Turner, Staff Officer, Cibola National Forest at James.Turner1@usda.gov or 505-346-3814.

Individuals who use telecommunication devices for the hearing-impaired (TDD) may call the Federal Information Relay Service (FIRS) at 1-800-877-8339 24 hours a day, every day of the year, including holidays. Written requests for information may be sent to Cibola National Forest, Attn: Plan Revision, 2113 Osuna Rd. NE, Albuquerque, NM 87113.

SUPPLEMENTARY INFORMATION: The Cibola National Forest covers four ranger districts and more than 1.6 million acres across 10 counties in central New Mexico. The LMP was developed pursuant to the 2012 Forest Service Planning Rule (36 CFR 219) and will replace the 1985 LMP. The LMP describes desired conditions, objectives, standards, guidelines, and land suitability for project and activity decision-making and will guide all resource management activities on the Forest. The Cibola National Forest plays a unique role supporting and partnering with communities in central New Mexico, as well as throughout the southwestern United States, by providing economic benefits including fuelwood and livestock grazing, and abundant recreational opportunities. The development of the LMP was shaped by the best available scientific information, current laws, and public input.

The Cibola National Forest initiated the plan revision in 2012, engaging with the public frequently and innovatively throughout the planning process. This effort has included conventional public meetings, collaborative work sessions, information sharing via social media, and the development of self-convening collaborative groups. The public, cooperating agencies, district collaboratives, and Tribes contributed well over 3,500 comments throughout the plan revision process from 2012 to 2019. The Cibola National Forest engaged in government-to-government consultation with 17 tribes during the LMP revision, ensuring tribal-related plan direction accurately reflects the Cibola National Forest's trust responsibilities and government-to-government relationship with the tribes.

A draft ROD, LMP, and FEIS were released in September 2021, initiating a 60-day objection filing period that closed November 2, 2021. The Cibola National Forest received six eligible objections. Through a comprehensive review of each objection, the Forest Service identified a variety of issues. Following the objection review, the Reviewing Officer held objection resolution meetings with objectors and interested persons. Based on these meetings, the Reviewing Officer issued a written response on May 24, 2022. The Cibola National Forest addressed instructions from the Reviewing Officer in the ROD, LMP, and FEIS.

Responsible Official

The Responsible Official for approving the LMP is Steve Hattenbach, Forest Supervisor, Cibola National Forest. The Responsible Official approving the list of species of conservation concern is Michiko Martin, Regional Forester, Southwestern Region.

Dated: July 12, 2022.
Deborah Hollen,
Acting Associate Deputy Chief, National Forest System.

[FR Doc. 2022-15195 Filed 7-14-22; 8:45 am]

BILLING CODE 3411-15-P